ENVIRONMENTAL PROTECTION AGENCY

40 CFR Part 721

[EPA-HQ-OPPT-2019-0495; FRL-10013-95]

RIN 2070-AB27

Significant New Use Rules on Certain Chemical Substances (19-5.B); Technical Correction for PMN P-19-24

AGENCY: Environmental Protection Agency (EPA).

ACTION: Final rule; technical correction.

SUMMARY: EPA issued final significant new use rules (SNURs) in the August 3, 2020 Federal Register for chemical substances that were the subject of premanufacture notices (PMNs). EPA incorrectly identified the Chemical Abstracts Service Registry Number (CASRN) for the chemical substance that was the subject of PMN P-19-24. This technical correction is being issued to correct this error.

DATES: This technical correction is effective October 2, 2020. For purposes of judicial review, this rule shall be promulgated at 1 p.m. (e.s.t.) on September 30, 2020.

ADDRESSES: The docket for this action, identified by docket identification (ID) number EPA-HQ-OPPT-2019-0495, is available at http://www.regulations.gov. Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: For technical information contact: William Wysong, Chemical Control Division, Office of Pollution Prevention and Toxics, Environmental Protection Agency, 1200 Pennsylvania Ave. NW, Washington, DC 20460-0001; telephone number: (202) 564-4163; email address: wysong.william@epa.gov.

For general information contact: The TSCA-Hotline, ABVI-Goodwill, 422 South Clinton Ave., Rochester, NY 14620; telephone number: (202) 554-1404; email address: TSCA-Hotline@epa.gov.

SUPPLEMENTARY INFORMATION:

I. What does this technical correction do?

EPA issued a final rule (referred to as SNUR Batch 19-5.B) in the August 3, 2020 Federal Register (85 FR 46550) (FRL-10009-78) on significant new uses for chemical substances that were the subject of PMNs. EPA subsequently determined that the final rule incorrectly identified the CASRN associated with the chemical substance silsesquioxanes, 3-(dimethyloctadecylammonio)propyl Me Pr, polymers with silicic acid (H4SiO4) tetra-Et ester, (2-hydroxyethoxy)- and methoxy-terminated, chlorides (PMN P-19-24) codified at 40 CFR 721.11380. This action corrects the error as follows:

• Paragraph (a)(1) of the SNUR at 40 CFR 721.11380 is corrected to identify the CASRN for the substance that was the subject of PMN P-19-24 as 2231249-14-0.

II. Why is this correction issued as a final rule?

Section 553 of the Administrative Procedure Act (APA) (5 U.S.C. 553(b)(3)(B)) provides that, when an Agency for good cause finds that notice and public procedure are impracticable, unnecessary or contrary to the public interest, the Agency may issue a final rule without providing notice and an opportunity for public comment. EPA has determined that there is good cause for making this technical correction final without prior proposal and opportunity for comment. Correcting the CASRN specified in the August 3, 2020 final rule is necessary for the proper identification of the chemical substance which is the subject of the SNUR at 40 CFR 721.11380. EPA finds that this constitutes good cause under 5 U.S.C. 553(b)(3)(B).

III. Do any of the statutory and Executive Order reviews apply to this action?

No. For a detailed discussion concerning the statutory and Executive Order review, refer to Unit XII. of the August 3, 2020 final rule.

IV. Congressional Review Act (CRA)

Pursuant to the CRA (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 721

Environmental protection, Chemicals, Hazardous substances, Reporting and recordkeeping requirements.

Dated: August 20, 2020.
Tala Henry,
Deputy Director, Office of Pollution Prevention and Toxics.

Therefore, for the reasons stated in the preamble, 40 CFR part 721 is corrected as follows:

PART 721—[AMENDED]

1. The authority citation for part 721 continues to read as follows:

Authority: 15 U.S.C. 2604, 2607, and 2625(c).

2. In § 721.11380, revise paragraph (a)(1) to read as follows:

§ 721.11380 Silsesquioxanes, 3-(dimethyloctadecylammonio)propyl Me Pr, polymers with silicic acid (H4SiO4) tetra-Et ester, (2-hydroxyethoxy)- and methoxy-terminated, chlorides.

(a) * * * (1) The chemical substance identified as silsesquioxanes, 3-(dimethyloctadecylammonio)propyl Me Pr, polymers with silicic acid (H4SiO4) tetra-Et ester, (2-hydroxyethoxy)- and methoxy-terminated, chlorides. (P-19-24, CASRN 2231249-14-0) is subject to reporting under this section for the significant new uses described in paragraph (a)(2) of this section.

* * * * *

[FR Doc. 2020-18885 Filed 9-15-20; 8:45 am]

BILLING CODE 6560-50-P